DEPARTMENT OF THE INTERIOR

National Park Service

Notice of Boundary Revision, and Opportunity for Public Comment, Mission San Jose Unit, San Antonio Missions National Historical Park

AGENCY: National Park Service, Interior.

ACTION: Notice.

SUMMARY: Title II, § 201 of the Act of November 10, 1978, Public Law No. 95-629, 92 Stat. 3635, 3636, codified as amended at 16 U.S.C. 410ee (2000), established San Antonio Missions National Historical Park in San Antonio, Texas. Subsection 201(a) of that act, codified as amended at 16 U.S.C. subsection 410ee(a) provides that, after advising the Committee on Energy and Natural Resources of the United States Senate and the Committee on Natural Resources of the United States House of Representatives, in writing, the Secretary of the Interior may make minor revisions of the boundaries of the park when necessary by publication of a revised drawing or other boundary description in the Federal Register. The National Park Service has so advised the Congressional committees of this minor boundary revision.

The boundary revision will result in the addition of 9.113 acres of land known as San Antonio Missions National Historical Park (SAAN) Tract 102-20 which adjoins the Mission San Jose y San Miguel de Aguayo Unit of the park. This parcel has significant cultural resources that contribute to the interpretation of Mission San Jose. Additionally, the parcel will provide pedestrian access to the San Antonio River along remnants of the historic grist mill ditch.

Tract 102-20 is depicted on the SAAN land acquisition status map segment 102, drawing number 472/80,026-D, prepared by the Land Resources Program Center, Intermountain Region. This map is on file and available for inspection in the office of the National Park Service, Land Resources Program Center, Intermountain Region, and the office of the Superintendent, San Antonio Missions National Historical Park.

DATES: Notice is hereby given that, effective on the date of publication of this notice, the boundaries of San Antonio Missions National Historical Park are revised pursuant to the above-cited act to include the lands depicted as Tract 102-20 on the map having drawing number 472/80,026-D. Comments will be received on or before July 22, 2002.

ADDRESSES: Send comments to the Superintendent, San Antonio Missions National Historical Park, 2202 Roosevelt Avenue, San Antonio, TX 78210-4919.

FOR FURTHER INFORMATION CONTACT: Further information about this minor boundary revision may be obtained from the Superintendent, San Antonio Missions National Historical Park, 2202 Roosevelt Avenue, San Antonio, Texas 78210-4919.

Dated: April 9, 2002.
Karen P. Wade,
Regional Director, Intermountain Region, National Park Service.

[FR Doc. 02-15637 Filed 6-20-02; 8:45 am]

BILLING CODE 4310-70-P